DEPARTMENT OF HOMELAND SECURITY

Coast Guard

[Docket No. USCG-2010-1150]

Towing Safety Advisory Committee; Vacancies

AGENCY: Coast Guard, DHS.

ACTION: Request for applications.

SUMMARY: The Coast Guard seeks applications for membership on the Towing Safety Advisory Committee (TSAC). This Committee advises the Coast Guard on matters relating to shallow-draft inland and coastal waterway navigation and towing safety.

DATES: Completed application forms should reach us on or before March 7, 2011.

ADDRESSES: Application forms are available for download on the Advisory Committee's Web site at http://homeport.uscg.mil/tsac. Look for the Application for Committee Membership ACM under “General Information”. You may also request an application form be e-mailed or sent to you by writing to Commandant (CG-5222)/TSAC, U.S. Coast Guard, 2100 Second St., SW,, STOP 7126, Washington, DC 20593-7126; calling 202-372-1427; or e-mail to Michael.J.Harmon@uscg.mil.

Also a copy of the application form, as well as this notice, is available in our online docket, USCG-2010-1150, at http://www.regulations.gov. Send your completed application to Michael J. Harmon, the Alternate Designated Federal Officer (ADFO) at the street address above.

FOR FURTHER INFORMATION CONTACT: Michael J. Harmon, ADFO of Towing Safety Advisory Committee (TSAC); telephone 202-372-1427; fax 202-372-1926; or e-mail at Michael.J.Harmon@uscg.mil.

SUPPLEMENTARY INFORMATION: The Towing Safety Advisory Committee (TSAC) (“Committee”) is a Federal advisory committee under 5 U.S.C. App. (Pub. L. 92-463). It was established under authority of the Act to establish a Towing Safety Advisory Committee in the Department of Transportation, Public Law 96-380, which was most recently amended by section 621 of the Coast Guard Authorization Act of 2010, Public Law 111-281. The Committee advises the Secretary of Homeland Security on matters relating to shallow-draft inland and coastal waterway navigation and towing safety. This advice also assists the Coast Guard in formulating the position of the United States regarding the towing industry in advance of International Maritime Organization meetings.

The Committee meets at least twice a year either in the Washington DC area or in cities with large towing centers of commerce and populated by high concentrations of towing industry and related businesses. It may also meet for extraordinary purposes. Subcommittees and workgroups may conduct intercessional telephonic meetings when necessary for specific tasking. The 18 members include:

○ Seven members representing the Barge and Towing industry (reflecting a regional geographical balance);

○ One member representing the offshore mineral and oil supply vessel industry;

○ One member representing holders of active licensed Masters or Pilots of towing vessels with experience on the Western Rivers and the Gulf Intracoastal Waterway.

○ One member representing the holders of active licensed Masters of towing vessels in offshore service.

○ One member representing Masters who are active ship-docking or harbor towing vessel.

○ One member representing licensed or unlicensed towing vessel engineers with formal training and experience.

○ Two members each representing the following sectors:

• Port districts, port authorities or terminal operators;

• Shippers (of whom one must be engaged in the shipment of oil or hazardous materials by barge);

○ Two members representing the General Public.

The Coast Guard is currently considering applications for eight positions, four current positions that will become vacant on September 30, 2011 and four newly created active-credentialed positions, resulting from amendments to the committee membership by section 621 of the 2010 Coast Guard Authorization Act, Public Law 111-281:

• Two representatives from the Barge and Towing industry;

• One representative from port districts, port authorities or terminal operators;

• One holder of an active license as Master or Pilot of towing vessels with experience on the Western Rivers and the Gulf Intracoastal Waterway.

• One holder of an active license as Master of towing vessels in offshore service.

• One active Master of a ship-docking or harbor towing vessel.

• One licensed or unlicensed towing vessel engineer with formal training and experience.

• One member from the General Public.

To be eligible, applicants should have expertise, knowledge, and experience relative to the position in the towing industry, marine transportation, or business operations associated with shallow-draft inland and coastal waterway navigation and towing safety. Registered lobbyists are not eligible to serve on Federal advisory committees. Registered lobbyists are lobbyists required to comply with provisions contained in the Lobbying Disclosure Act of 1995 (Pub. L. 104-65, as amended by Title II of Pub. L. 110-81). Each member serves for a term of up to 3 years. Members may be considered to serve consecutive terms. All members serve at their own expense and receive no salary, or other compensation from the Federal Government. The exception to this policy is the possible reimbursement of travel expenses depending on fiscal budgetary constraints.

In support of the policy of the Coast Guard on gender and ethnic diversity, we encourage qualified women and members of minority groups to apply. The Coast Guard values diversity as an enhancement to all the different characteristics and attributes that augment the Coast Guard mission.

If you are selected as a member who represents the general public, you will be appointed and serve as a special Government employee (SGE) as defined in section 202(a) of title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official or the DAEO's designate may release a Confidential Financial Disclosure Report.

If you are interested in applying to become a member of the Committee, send a completed application to Michael J. Harmon, Alternate Designated Federal Officer (ADFO) of TSAC at Commandant (CG-5222)/TSAC, U.S. Coast Guard, 2100 Second St., SW., STOP 7126, Washington, DC 20593-7126. Send the application in time for it to be received by the DFO on or before March 7, 2011. Please do not complete the political affiliation portion of the application because all TSAC appointments are made without regard to political affiliation. In addition to your “HOME ADDRESS”, please include a valid e-mail address in that block. In the “TELEPHONE” block please include a valid contact number. A copy of the application form is available in the docket for this notice. To visit our online docket, go to http://www.regulations.gov, enter the docket number for this notice (USCG-2010-1150) in the Search box, and click “Go.”

Dated: January 10, 2011.
J.G. Lantz,
Director of Commercial Regulations and Standards.

[FR Doc. 2011-1068 Filed 1-19-11; 8:45 am]

BILLING CODE 9110-04-P